DEPARTMENT OF ENERGY

Federal Energy Regulatory Commission

[Docket No. RP00-632-009]

Dominion Transmission, Inc.; Notice of Addendum to Report of Refunds

May 24, 2002.

Take notice that on May 8 and May 13, 2002, Dominion Transmission, Inc. (DTI) filed an addendum and an errata to the addendum to the report of refunds originally filed on February 26, 2002, the above-captioned proceeding. DTI states that the reported refunds and billing adjustments reflect DTI's implementation of the TCRA settlement in the above-captioned proceeding.

DTI states that the purpose of these filings is to correct certain entries in the refund report that DTI previously filed with the Commission. Mistakes were made in the original filing due to a programming anomaly in the allocation process that was not discovered before the original refund report was filed.

DTI states that copies of its report and summary workpapers are being mailed to affected customers, interested state commissions and all parties to the above-captioned proceeding.

Any person desiring to protest said filing should file a protest with the Federal Energy Regulatory Commission, 888 First Street, NE., Washington, DC 20426, in accordance with Section 385.211 of the Commission's Rules and Regulations. All such protests must be filed on or before May 31, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13677 Filed 5-30-02; 8:45 am]

BILLING CODE 6717-01-P